RAILROAD RETIREMENT BOARD

Sunshine Act; Notice of Public Meeting

Notice is hereby given that the Railroad Retirement Board will hold a meeting on July 22, 2009, 10 a.m. at the Board's meeting room on the 8th floor of its headquarters building, 844 North Rush Street, Chicago, Illinois, 60611. The agenda for this meeting follows:

(1) Executive Committee Reports.

(2) For Discussion Only: Implications of SSA OIG QRE Findings on RRB Disability Processing and the Financial Interchange.

The entire meeting will be open to the public. The person to contact for more information is Beatrice Ezerski, Secretary to the Board, Phone No. 312-751-4920.

Dated: July 13, 2009.
Beatrice Ezerski,
Secretary to the Board.

[FR Doc. E9-17024 Filed 7-14-09; 11:15 am]

BILLING CODE 7905-01-P